ENVIRONMENTAL PROTECTION AGENCY

[FRL-9302-1]

Children's Health Protection Advisory Committee; Request for Nominations to the Children's Health Protection Advisory Committee

AGENCY: Environmental Protection Agency (EPA).

ACTION: Notice.

SUMMARY: The U.S. Environmental Protection Agency (EPA) invites nominations from a range of qualified candidates to be considered for appointment to its Children's Health Protection Advisory Committee. Vacancies are anticipated to be filled by December 2011. Sources in addition to this Federal Register Notice may also be used to solicit nominees.

Background: The Children's Health Protection Advisory Committee is a Federal advisory committee chartered under the Federal Advisory Committee Act (FACA), Public Law 92-463. EPA established this Committee in 1997 to provide independent advice to the EPA Administrator on a broad range of environmental issues affecting children's health.

Members are appointed by the EPA Administrator for two year terms with the possibility of reappointment to a second term. The Committee usually meets 2-3 times annually and the average workload is approximately 10 to 15 hours per month. EPA provides reimbursement for travel and other incidental expenses associated with official government business, but members must be able to cover expenses prior to reimbursement.

The CHPAC is looking for representatives from the private sector, state and local government, academia (including a graduate level student representative), NGOs, public health practitioners, pediatricians, obstetrics, occupational medicine, community nurses, environmental groups, health groups, health research, epidemiology and toxicology. We are looking for experience in children's environmental health policy, and in specific issues such as lead poisoning and asthma, chemical exposures, public health information tracking, knowledge of EPA regulation development, risk assessment, exposure assessment, tribal children's environmental health and children's environmental health disparities. EPA encourages nominations from all racial and ethnic groups.

The following criteria will be used to evaluate nominees:

—The ability of candidate to effectively contribute to discussions and provide useful recommendations on the following issues: Risk assessment, exposure assessment and children's health; Air quality, both indoor and outdoor, regulations, policies, outreach and communication; Water quality, regulations, policies, outreach and communication; Prenatal exposures and health outcomes; Chemical exposures, pesticide exposures, health outcomes, policy and regulation; Asthma disparities and other environmental health disparities; America's Children and the Environment and other data and information collection issues; Lead, mercury and other heavy metal concerns for children's health; Exposures that affect children's health in homes, schools, child care centers; Building capacity among health providers to prevent, diagnose and treat environmental health conditions in children.

—The background and experience that would contribute to the diversity of perspectives on the committee (e.g., geographic, economic, social, cultural, educational, and other considerations).

—Ability to volunteer time to attend meetings 2-3 times a year in Washington, DC, participate in teleconference meetings, develop recommendations to the Administrator, and prepare reports and advice letters.

Nominations must include a resume and a short biography describing the professional and educational qualifications of the nominee, as well as the nominee's current business address, e-mail address, and daytime telephone number. Interested candidates may self-nominate.

To help the Agency in evaluating the effectiveness of its outreach efforts, please tell us how you learned of this opportunity.

Submit nominations by May 20, 2011 to: Martha Berger, Designated Federal Officer, Office of Children's Health Protection, U.S. Environmental Protection Agency, Mail Code 1107T, 1301 Constitution Avenue, NW., Washington, DC 20460. You may also e-mail nominations with subject line CHPAC 2011 to berger.martha@epa.gov.

FOR FURTHER INFORMATION CONTACT: Martha Berger, Designated Federal Officer, U.S. EPA; telephone (202) 564-2191.

Dated: April 19, 2011.
Martha Berger,
Designated Federal Officer.

[FR Doc. 2011-10886 Filed 5-3-11; 8:45 am]

BILLING CODE 6560-50-P